NUCLEAR REGULATORY COMMISSION

[NRC-2020-0064]

Information Collection: Collection of Operator Simulator Training Data

AGENCY: Nuclear Regulatory Commission.

ACTION: Renewal of existing information collection; request for comment.

SUMMARY: The U.S. Nuclear Regulatory Commission (NRC) invites public comment on the renewal of Office of Management and Budget (OMB) approval for an existing collection of information. The information collection is entitled, “Collection of Operator Simulator Training Data.”

DATES: Submit comments by November 10, 2020. Comments received after this date will be considered if it is practical to do so, but the Commission is able to ensure consideration only for comments received on or before this date.

ADDRESSES: You may submit comments by any of the following methods:

• Federal Rulemaking Website: Go to https://www.regulations.gov and search for Docket ID NRC-2020-0064. For technical questions, contact the individual listed in the FOR FURTHER INFORMATION CONTACT section of this document.

• Mail comments to: David Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2020-0064 when contacting the NRC about the availability of information for this action. You may obtain publicly-available information related to this action by any of the following methods:

• Federal Rulemaking Website: Go to https://www.regulations.gov and search for Docket ID NRC-2020-0064. A copy of the collection of information and related instructions may be obtained without charge by accessing Docket ID NRC-2020-0064 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. A copy of the collection of information and related instructions may be obtained without charge by accessing ADAMS Accession No. ML17128A343. The supporting statements are available in ADAMS under Accession Nos. ML20178A317 and ML20178A318.

• NRC's Clearance Officer: A copy of the collection of information and related instructions may be obtained without charge by contacting NRC's Clearance Officer, David Cullison, Office of the Chief Information Officer, U.S. Nuclear Regulatory Commission, Washington, DC 20555-0001; telephone: 301-415-2084; email: Infocollects.Resource@nrc.gov.

B. Submitting Comments

Please include Docket ID NRC-2020-0064 in the subject line of your comment submission, in order to ensure that the NRC is able to make your comment submission available to the public in this docket.

The NRC cautions you not to include identifying or contact information in comment submissions that you do not want to be publicly disclosed in your comment submission. The NRC will post all comment submissions at https://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

In accordance with the Paperwork Reduction Act of 1995 (44 U.S.C. Chapter 35), the NRC is requesting public comment on its intention to request the OMB's approval for the information collection summarized below.

1. The title of the information collection: Collection of Operator Simulator Training Data.

2. OMB approval number: 3150-0234.

3. Type of submission: Extension.

4. The form number, if applicable: N/A.

5. How often the collection is required or requested: Six times per year.

6. Who will be required or asked to respond: All holders of, or applicants for, a power reactor operating license under part 50 of title 10 of the Code of Federal Regulations (10 CFR), “Domestic Licensing of Production and Utilization Facilities,” except those that have certified that they have permanently ceased operations and have permanently removed all fuel from the reactor vessel.

All holders of, or applicants for, a power reactor combined license under 10 CFR part 52, “Licenses, Certifications, and Approvals for Nuclear Power Plants.”

7. The estimated number of annual responses: 32.

8. The estimated number of annual respondents: 5.

9. The estimated number of hours needed annually to comply with the information collection requirement or request: 148 hours.

10. Abstract: This information collection request is to the holders of, or applicants for, a power reactor operating license under 10 CFR part 50, “Domestic Licensing of Production and Utilization Facilities,” except those that have certified that they have permanently ceased operations and have permanently removed all fuel from the reactor vessel, and the holders of, or applicants for, a power reactor combined license under 10 CFR part 52, “Licenses, Certifications, and Approvals for Nuclear Power Plants.”

This information collection is for the specified licensees to use the NRC-developed Scenario Authoring, Characterization and Debriefing Application (SACADA) software for their operator simulator training. The SACADA system was developed to collect licensed operator simulator training data to inform human reliability analysis (HRA) and to facilitate operator simulator training. The SACADA software can be used to author the simulation scenarios, facilitate the post simulation debriefing on crew performance, guide performance analysis, and generate various types of reports. The information entered into the SACADA database can be used to improve simulator training effectiveness and HRA. The South Texas Project Nuclear Operating Company (STPNOC) has used the software for its operator simulator training since 2012 and highly regards the software. The NRC welcomes more licensees to partner with the NRC to use the software. The licensees' participation in the information collection is voluntary. In the partnership, the NRC provides the SACADA software license, training, and technical support to the participating licensees, and the participating licensees grant NRC access to analyze the data to improve the NRC's HRA techniques. An agreement will be developed to specify the details.

To participate in the information collection, the licensee will notify the NRC contact that it is interested in evaluating the software. Then the NRC will provide additional information including an onsite briefing. If the licensee thinks the SACADA software could be beneficial, the NRC will provide a training session, the software license, and technical support for the licensee to pilot the use of the software in its simulator training. After the pilot study, the licensee will decide whether or not to partner with the NRC on the information collection. Either party can terminate the agreement at any time.

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated: September 4, 2020.
For the Nuclear Regulatory Commission (NRC).
David C. Cullison,
NRC Clearance Officer, Office of the Chief Information Officer.

[FR Doc. 2020-20042 Filed 9-10-20; 8:45 am]

BILLING CODE 7590-01-P